DEPARTMENT OF THE INTERIOR

National Park Service

General Management Plan, Final Environmental Impact Statement, Cedar Creek and Belle Grove National Historic Park, VA

AGENCY: National Park Service, Department of the Interior.

ACTION: Notice of Availability of the Final Environmental Impact Statement for General Management Plan, Cedar Creek and Belle Grove National Historical Park.

SUMMARY: Pursuant to the National Environmental Policy Act of 1969, 42 U.S.C. 4332(2)(C), the National Park Service (NPS) announces the availability of the Final Environmental Impact Statement for the General Management Plan (Final GMP/EIS) for Cedar Creek and Belle Grove National Historical Park, Virginia. When approved, the plan will provide guidance to park management for administration, development, and interpretation of park resources over the next 20 years.

The Final GMP/EIS responds to, and incorporates, agency and public comments received on the Draft GMP/EIS, which was available for public and agency review from November 28, 2008 through February 26, 2009. Copies of the Draft EIS/GMP were available at the park office, by request, and on the NPS Planning, Environment, and Public Comment Web site (http://parkplanning.nps.gov/cebegmp). Public meetings were held on January 28 and 29 and February 4, 2009. Agency and public comments with NPS responses are provided as Appendix E and F, respectively of the Final GMP/EIS.

DATES: The NPS will prepare a Record of Decision (ROD) no sooner than 30 days following publication by the Environmental Protection Agency of the Notice of Availability of the Final GMP/EIS in the Federal Register.

ADDRESSES: The document will be available for public review and comment online at http://parkplanning.nps.gov/cebegmp. Requests for a hard copy or an electronic copy on CD may be made by contacting the park at (540) 868-9176.

FOR FURTHER INFORMATION CONTACT: Diann Jacox, Superintendent, Cedar Creek and Belle Grove National Historical Park, 7718½; Main Street, Middletown, Virginia 22645, (540) 868-9176.

SUPPLEMENTARY INFORMATION: Consistent with Federal laws, regulations, and National Park Service policies, the Final GMP/EIS describes and analyzes the environmental impact of four alternatives (A-D) to guide the development and future management of the National Historical Park. Alternative A (Continuation of Current Management) focuses on sites owned, managed, and interpreted by Key Partners, with the NPS providing technical assistance and national visibility. This alternative provides a baseline evaluation of the existing resource conditions, facilities, and management at Cedar Creek and Belle Grove National Historical Park.

Under Alternative B, visitors would experience the park at sites owned by the Key Partners and through electronic media and NPS ranger led tours and programs. Visitors would access the park via auto-touring routes, and a few non-motorized trails located primarily on Key Partner properties. The primary role NPS would be to provide interpretive programs and technical assistance. The Key Partners would have the primary responsibility for land and resource protection. There would be increased coordination among the NPS and Key Partners, with the NPS serving as a coordinator for land and resource protection.

Under Alternative C, visitors would experience the park at a NPS-developed and managed visitor center and at visitor focal areas owned and managed by the NPS and the Key Partners. The NPS and the Key Partners would coordinate interpretive programs at these sites. Visitors would access the park via auto-touring routes and a system of non-motorized trails that provides opportunities for interpretation. The NPS and the Key Partners would develop a coordinated land protection plan focused on protection of key historic sites that would become focal areas. The NPS and the Key Partners would develop formal agreements to undertake special projects and general park management.

Alternative D is the NPS preferred alternative. Under this alternative, visitors would experience the park at a NPS-developed and managed visitor center and at visitor focal areas owned and managed by the NPS and the Key Partners. The NPS and the Key Partners would coordinate interpretive programs at these sites. Visitors would access the park via auto-touring routes and an extensive system of non-motorized trails that provides opportunities for interpretation and recreation, that connect focal areas, and tie to communities and resources outside the park. The NPS and the Key Partners would develop a coordinated land protection plan focused on protection of cultural landscapes, sensitive natural resource areas, and lands providing connections between NPS and Key Partner properties.

Dennis R. Reidenbach,
Regional Director, Northeast Region, National Park Service.

[FR Doc. 2011-3266 Filed 2-17-11; 8:45 am]

BILLING CODE 4310-AR-P